DEPARTMENT OF AGRICULTURE

Farm Service Agency

7 CFR Part 701

RIN 0560-AG26

Emergency Conservation Program

AGENCY: Farm Service Agency, USDA.

ACTION: Final rule; correction.

SUMMARY: This document corrects the final rule document published March 4, 2004 (69 FR 10299), which set out regulations for the Emergency Conservation Program (ECP) and also provided for resolving matters related to other programs that have been administered under the same part. This document removes erroneous language that could be misleading.

EFFECTIVE DATE: March 4, 2004.

FOR FURTHER INFORMATION CONTACT: Clayton Furukawa, Conservation and Environmental Protection Division, Farm Service Agency (FSA), United States Department of Agriculture (USDA 690-057), Stop 0517, 1400 Independence Avenue SW., Washington, DC 20250-0517. Telephone: (202) 690-0571; e-mail: clayton.furukawa@usda.gov.

SUPPLEMENTARY INFORMATION: The Farm Service Agency published a final rule in the Federal Register of March 4, 2004, (69 FR 10299) revising the regulations for the Emergency Conservation Program. In section 701.10(c) of that final rule, the last sentence incorrectly states “Denial of a request for a waiver is not subject to appeal.” This correction removes that sentence.

In rule FR Doc. 04-4861 published March 4, 2004, (69 FR 10299) make the following correction:

§ 701.10 [Corrected]

On page 10304, in § 701.10, paragraph (c), remove the last sentence.

Signed in Washington, DC, on April 19, 2004.
Michael W. Yost,
Acting Administrator, Farm Service Agency.

[FR Doc. 04-9419 Filed 4-23-04; 8:45 am]

BILLING CODE 3410-05-P